DEPARTMENT OF HOMELAND SECURITY

Coast Guard

33 CFR Part 100

[Docket No. USCG-2010-0081]

RIN 1625-AA08

Special Local Regulations for Marine Events; Chester River, Chestertown, MD; Correction

ACTION: Temporary final rule; correction.

SUMMARY: In the Federal Register published on April 23, 2010, the Coast Guard established special local regulations during the reenactment portion of the “Chestertown Tea Party Festival.” The Chestertown Tea Party Festival is a marine event to be held on the waters of the Chester River, Chestertown, MD on May 29, 2010. The special local regulation published with an error in the heading, specifically, the CFR title and part in the heading should have read “33 CFR Part 100,” instead of “33 CFR Part 165.”

DATES: This correction is effective May 6, 2010.

FOR FURTHER INFORMATION CONTACT: For information about this correction, contact Kevin d'Eustachio, Office of Regulations and Administrative Law, (202) 372-3854 kevin.m.deustachio@uscg.mil. For information about the original regulation, contact Mr. Ronald Houck, Sector Baltimore Waterways Management Division, Coast Guard; telephone (410) 576-2674, e-mail Ronald.L.Houck@uscg.mil.

SUPPLEMENTARY INFORMATION: In FR doc 2010-9496 appearing on page 21167 in the issue of Friday, April 23, 2010, the following corrections are made:

1. In the document heading on page 21167, correct the CFR citation to read “33 CFR Part 100”.

Dated: April 28, 2010.
S. Venckus,
Office of Regulations and Administrative Law (CG-0943), U.S. Coast Guard.

[FR Doc. 2010-10606 Filed 5-5-10; 8:45 am]

BILLING CODE 9110-04-P